DEPARTMENT OF COMMERCE

International Trade Administration

[A-570-905]

Certain Polyester Staple Fiber From the People's Republic of China: Partial Rescission of the Antidumping Duty Administrative Review; 2012-2013

AGENCY: Enforcement and Compliance, formerly Import Administration, International Trade Administration, Department of Commerce.

SUMMARY: The Department of Commerce (“the Department”) is partially rescinding the administrative review of the antidumping duty order on certain polyester staple fiber from the People's Republic of China (“PRC”) for the period June 1, 2012 through May 31, 2013, based on the withdrawal of a certain request for review.

DATES: Effective Date: January 8, 2014.

FOR FURTHER INFORMATION CONTACT: Steven Hampton, AD/CVD Operations, Office V, Enforcement and Compliance, International Trade Administration, Department of Commerce, 14th Street and Constitution Avenue NW, Washington, DC 20230; telephone: (202) 482-0116.

SUPPLEMENTARY INFORMATION:

Background

On June 3, 2013, the Department published a notice of opportunity to request an administrative review of the antidumping duty order on certain polyester staple fiber from the PRC.¹ Pursuant to requests from interested parties, the Department initiated an administrative review with respect to two exporters² for the period June 1, 2012 through May 31, 2013.³ The deadline for a party to withdraw a request for review was October 30, 2013.⁴ As explained in the memorandum from the Assistant Secretary for Enforcement and Compliance, the Department exercised its discretion to toll deadlines for the duration of the closure of the Federal Government from October 1, through October 16, 2013.⁵ Thus, all of the deadlines in this segment of the proceeding were extended by 16 days. Therefore, the revised deadline for a party to withdraw a request for review was November 15, 2013.

¹ See Antidumping or Countervailing Duty Order, Finding, or Suspended Investigation; Opportunity To Request Administrative Review, 78 FR 33061 (June 3, 2013).

² The Department initiated a review of Takayasu Industrial (Jiangyin) Co., Ltd. (“Takayasu”) and Zhaoqing Tifo New Fibre Co., Ltd. (“Zhaoqing Tifo”).

³ See Initiation of Antidumping and Countervailing Duty Administrative Reviews and Request for Revocation in Part, 78 FR 46566 (August 1, 2013)

⁴ Id., 78 FR at 46566-46567.

⁵ See Memorandum for the Record from Paul Piquado, Assistant Secretary for Enforcement and Compliance, “Deadlines Affected by the Shutdown of the Federal Government” (October 18, 2013).

Withdrawal of Review Request

On November 14, 2013, Zhaoqing Tifo New Fiber Co., Ltd. (“Zhaoqing Tifo”) ⁶ withdrew its review request. No other party requested an administrative review of Zhaoqing Tifo.

⁶ Zhaoqing Tifo New Fiber Co., Ltd. is also known as Zhaoqing Tifo New Fibre Co., Ltd. See, e.g., Letter from Zhaoqing Tifo regarding Certain Polyester Staple Fiber from the People's Republic of China Request for Annual Administrative Review, dated June 28, 2013 (Throughout this proceeding, Zhaoqing Tifo has used the different spellings of “Fiber” and “Fibre” interchangeably.)

Partial Rescission of the 2012-2013 Administrative Review

Pursuant to 19 CFR 351.213(d)(1), the Department will rescind an administrative review, in whole or in part, if the parties that requested a review withdraw the request within 90 days of the date of publication of the notice of initiation. Zhaoqing Tifo's withdrawal of its review request was submitted within the deadline set forth under 19 CFR 351.213(d)(1). Therefore, in accordance with 19 CFR 351.213(d)(1) and consistent with our practice,⁷ the Department is rescinding this review on the antidumping duty order on certain polyester staple fiber from the PRC with respect to Zhaoqing Tifo. The review will continue with respect to the other firm for which a review was requested and initiated, Takayasu.

⁷ See, e.g., Certain Lined Paper Products From India: Notice of Partial Rescission of Antidumping Duty Administrative Review and Extension of Time Limit for the Preliminary Results of Antidumping Duty Administrative Review, 74 FR 21781 (May 11, 2009); and Aluminum Extrusions From the People's Republic of China: Notice of Partial Rescission of Countervailing Duty Administrative Review, 77 FR 65671 (October 30, 2012).

Assessment

The Department will instruct U.S. Customs and Border Protection (“CBP”) to assess antidumping duties on all appropriate entries. For Zhaoqing Tifo, antidumping duties shall be assessed at rates equal to the cash deposit of estimated antidumping duties required at the time of entry, or withdrawal from warehouse, for consumption, during the period June 1, 2012, through May 31, 2013, in accordance with 19 CFR 351.212(c)(1)(i). The Department intends to issue appropriate assessment instruction directly to CBP 15 days after publication of this notice.

Notifications

This notice serves as a final reminder to importers of their responsibility under 19 CFR 351.402(f)(2) to file a certificate regarding the reimbursement of antidumping duties prior to liquidation of the relevant entries during this review period. Failure to comply with this requirement could result in the presumption that reimbursement of antidumping duties occurred and the subsequent assessment of doubled antidumping duties.

This notice also serves as a final reminder to parties subject to the administrative protective order (“APO”) of their responsibility concerning the disposition of proprietary information disclosed under an APO in accordance with 19 CFR 351.305(a)(3). Timely written notification of the return or destruction of APO materials, or conversion to judicial protective order, is hereby requested. Failure to comply with the regulations and terms of an APO is a violation which is subject to sanction.

Dated: January 2, 2014.
Christian Marsh,
Deputy Assistant Secretary for Antidumping and Countervailing Duty Operations.

[FR Doc. 2014-00109 Filed 1-7-14; 8:45 am]

BILLING CODE 3510-DS-P